DEPARTMENT OF HOMELAND SECURITY

Coast Guard

33 CFR Part 117

[CGD01-03-031]

Drawbridge Operation Regulations: Mianus River, CT

AGENCY: Coast Guard, DHS.

ACTION: Notice of temporary deviation from regulations.

SUMMARY: The Commander, First Coast Guard District, has issued a temporary deviation from the drawbridge operation regulations for the Metro North Bridge, mile 1.0, across the Mianus River in Cos Cob, Connecticut. Under this temporary deviation a three-hour advance notice for bridge openings will be required from April 25, 2003 through May 26, 2003. This temporary deviation is necessary to facilitate structural repairs at the bridge.

DATES: This deviation is effective from April 25, 2003 through May 26, 2003.

FOR FURTHER INFORMATION CONTACT: Joseph Schmied, Project Officer, First Coast Guard District, at (212) 668-7195.

SUPPLEMENTARY INFORMATION: The Metro North Bridge has a vertical clearance in the closed position of 20 feet at mean high water and 27 feet at mean low water. The existing drawbridge operation regulations are listed at 33 CFR 117.209.

The bridge owner, Metro North Commuter Railroad, requested a temporary deviation from the drawbridge operation regulations to facilitate necessary maintenance, the replacement of damaged miter rails and timbers, at the bridge. The bridge must remain in the closed position to perform these repairs.

The Coast Guard coordinated this closure with the mariners who normally use this waterway to help facilitate this necessary bridge repair and to minimize any disruption to the marine transportation system.

Under this temporary deviation for the Metro North Bridge, a three-hour advance notice will be required for bridge openings from April 25, 2003 through May 26, 2003.

The bridge owner did not provide the required thirty-day notice to the Coast Guard for this deviation; however, this deviation was approved because the repairs are necessary repairs that must be performed without delay in order to assure the continued safe reliable operation of the bridge.

This deviation from the operating regulations is authorized under 33 CFR 117.35, and will be performed with all due speed in order to return the bridge to normal operation as soon as possible.

Dated: April 21, 2003.
John L. Grenier,
Captain, Coast Guard, Acting Commander, First Coast Guard District.

[FR Doc. 03-10831 Filed 5-1-03; 8:45 am]

BILLING CODE 4910-15-P